RAILROAD RETIREMENT BOARD

Sunshine Act Meetings

FEDERAL REGISTER CITATION OF PREVIOUS ANNOUNCEMENT: Sunshine Act Meetings, 87 FR 48212 (August 8, 2022).

PREVIOUSLY ANNOUNCED TIME AND DATE OF THE MEETING: 10:00 a.m., August 17, 2022.

CHANGES IN THE MEETING: On August 16, 2022, the Board voted unanimously to approve the following addition to the August 17, 2022 public meeting agenda:

4. Update to the GSA repurposing study and implementation of the GSA financial study.

CONTACT PERSON FOR MORE INFORMATION: Stephanie Hillyard, Secretary to the Board, Phone No. 312-751-4920.

Dated: August 22, 2022.
Stephanie Hillyard,
Secretary to the Board.

[FR Doc. 2022-18317 Filed 8-22-22; 4:15 pm]

BILLING CODE 7905-01-P